DEPARTMENT OF AGRICULTURE

Forest Service

Resurrection Creek Restoration Phase II Project Environmental Impact Statement

AGENCY: Forest Service, USDA.

ACTION: Notice of intent to prepare an Environmental Impact Statement.

SUMMARY: The Chugach National Forest, Seward Ranger District will prepare an environmental impact statement for the implementation of a stream and riparian restoration project along a two-mile segment of Resurrection Creek within active mining claims. The environmental impact statement will evaluate the environmental consequences of the proposed restoration project and will also address a supplemental mining plan of operations proposing mining adjacent to the restoration corridor.

DATES: To be most useful, comments concerning the scope of this project should be received by the end of February 2008. A draft environmental impact statement is expected to be ready for review in the summer of 2008 and a final environmental impact statement is planned for the fall of 2008. Public meetings are also planned to be held: February 12, 2008 in Hope, AK (6 p.m. to 8 p.m. at Hope Social Hall), February 13, 2008 in Anchorage, AK (7 p.m. to 9 p.m. at Loussac Public Library).

ADDRESSES: Please send written comments to: Chugach National Forest, Attn.: Bill MacFarlane, Resurrection Creek Stream and Riparian Restoration Phase II EIS, 3301 ‘C’ Street, Anchorage, AK 99503-3998. Comments may also be sent via fax to: 907-743-9480 or via e-mail to: wamacfarlane@fs.fed.us. Please specify Scoping Comments for Resurrection Creek in the subject line.

FOR FURTHER INFORMATION CONTACT: Bill MacFarlane, Project Coordinator, Chugach National Forest, Attn.: Bill MacFarlane, Resurrection Creek Stream and Riparian Restoration Phase II EIS, 3301 ‘C’ Street, Anchorage, AK 99503-3998, telephone (907) 743-9434, e-mail: wamacfarlane@fs.fed.us.

SUPPLEMENTARY INFORMATION:

Background

The Resurrection Creek watershed drains 161 square miles on the north side of the Kenai Peninsula, and the community of Hope, Alaska is located at the mouth of Resurrection Creek. Resurrection Creek was the site of Alaska's first gold rush over a century ago, and placer mining continues today. Resurrection Creek is also home to all five species of Pacific salmon and numerous wildlife species. The Resurrection Pass Trail parallels much of Resurrection Creek and provides access to the watershed.

This proposed “Phase II” project would extend upon the “Phase I” restoration work completed by the Forest Service during 2005 and 2006 on a one-mile reach of Resurrection Creek, located about a mile upstream from the Resurrection Pass Trailhead. These reaches were impacted by historic mining, and both of these projects were recommended in the Resurrection Creek Landscape Assessment, completed in 2001.

The Seward Ranger District proposes to restore Resurrection Creek's channel, floodplain, and streamside vegetation to pre-mining conditions and enhance fish and riparian wildlife habitat. Restoration work would take place on and adjacent to Resurrection Creek along the two-mile project reach. Elements of the proposed project implementation include the following:

• Providing access for heavy equipment, which may include a temporary bridge over Resurrection Creek.

• Mechanical manipulation and grading of up to 200,000 cubic yards of mine tailings to restore the natural floodplain widths and elevations.

• Construction of a meandering river channel and adjacent side channels that mimic natural conditions, include abundant habitat, and promote a self-sustaining riparian ecosystem.

• Selective removal of beetle killed spruce and cottonwood trees, taken primarily from the valley floor and western terrace along the project area, for use in stream bank protection, habitat improvement, and floodplain stabilization.

• Replacement of nutrient-rich soils over the restored floodplains, transplanted primarily from the western terrace of the project area, to improve growing conditions for native plant communities in the floodplains and riparian areas.

• Re-vegetation of native plant species on constructed floodplains and riparian areas, including natural re-vegetation, seeding, and planting.

The project area lies within mining claims of the Hope Mining Company. Because the proposed stream restoration would occur within active mining claims, the Forest Service has worked with the mine claimants to establish a restoration corridor, where mining operations would be excluded in order to protect the restored ecosystem.

To accomplish the proposed restoration within the restoration corridor through these active claims, this project will address Hope Mining Company's proposed supplemental mining plan of operations which:

• Provides the necessary protection for the proposed Resurrection Creek restoration efforts from existing approved mining operations and future mining operations within the restoration corridor; and

• Includes proposed mining operations for seven areas adjacent to the proposed corridor. These seven areas will be analyzed concurrently with the proposed stream restoration elements.

Permits and Licenses

The proposed restoration is not expected to require any permits or licenses; however, depending on final project design and land ownership, the Forest Service may obtain a water use permit (AS 41.114, Section 870) and/or a temporary land use permit (11 AAC 96.010a).

Public Involvement

During February of 2008 the Forest Service will be seeking information, comments, and assistance from Federal, State and local agencies, tribal organizations, individuals, and organizations that may be interested in, or affected by the proposed activities. Comments received as a result of both the earlier public involvement and the current scoping will be included in this analysis. All comments will be analyzed to identify issues to be considered in the Draft EIS. Issues currently identified for analysis in the EIS include potential effects of the allocation to economic opportunities, conflicts between commercial operations, displacement of resident users, impacts to wildlife habitat, and the effect on subsistence uses.

It is also expected that two public meetings will be held in Hope and Anchorage February 12th and 13th, 2008 respectively, to provide project area information and discuss local concerns and interests that should be addressed in this environmental analysis. Based on the results of scoping, alternatives will be developed, analyzed, and compared in a Draft EIS. The Draft EIS will be filed with the Environmental Protection Agency (EPA) in the summer of 2008. Comments on the DEIS will be considered and responded to in the Final EIS, to be completed by fall 2008.

The comment period on the draft environmental impact statement will be 45 days from the date the Environmental Protection Agency publishes the notice of availability in the Federal Register. The Forest Service believes, at this early stage, it is important to give reviewers notice of several court rulings related to public participation in the environmental review process. First, reviewers or draft environmental impact statement must structure their participation in the environmental review of the proposal so that it is meaningful and alerts an agency to the reviewer's position and contentions. Vermont Yankee Nuclear Power Corp. v. NRDC, 435 U.S. 519, 553 (1978).

Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that comments can be made available to the Forest Service at a time when they can be meaningfully considered responded to in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this Proposed Action and will be available for public inspection and may be released under FOIA. Comments submitted anonymously will be accepted and considered; however, those who submit anonymous comments will not have standing to appeal the subsequent decision (36 CFR Parts 215).

Responsible Official: Jeni Evans, Seward District Ranger, Chugach National Forest, is the responsible official.

Dated: January 17, 2008.
Jeni Bradley Evans,
District Ranger.

[FR Doc. 08-347 Filed 1-25-08; 8:45 am]

BILLING CODE 3410-11-M